DEPARTMENT OF ENERGY

Federal Energy Regulatory Commission

Combined Notice of Filings #1

Take notice that the Commission received the following electric corporate filings:

Docket Numbers: EC17-70-000.

Applicants: American Electric Power Service Corporation, Public Service Company of Oklahoma.

Description: Application for Authorization under Section 203 of the FPA of American Electric Power Service Corporation, et al.

Filed Date: 1/27/17.

Accession Number: 20170127-5295.

Comments Due: 5 p.m. ET 2/17/17.

Docket Numbers: EC17-71-000.

Applicants: Broadview Energy JN, LLC, Broadview Energy KW, LLC.

Description: Application for Authorization for Disposition of Jurisdictional Facilities and Requests for Waivers, Confidential Treatment, and Expedited Consideration of Broadview Energy JN, LLC, et al.

Filed Date: 1/27/17.

Accession Number: 20170127-5304.

Comments Due: 5 p.m. ET 2/17/17.

Take notice that the Commission received the following exempt wholesale generator filings:

Docket Numbers: EG17-45-000.

Applicants: Bayshore Solar A, LLC.

Description: Notice of Self-Certification of Exempt Wholesale Generator (EWG) of Bayshore Solar A, LLC.

Filed Date: 1/27/17.

Accession Number: 20170127-5208.

Comments Due: 5 p.m. ET 2/17/17.

Docket Numbers: EG17-46-000.

Applicants: Bayshore Solar B, LLC.

Description: Notice of Self-Certification of Exempt Wholesale Generator (EWG) of Bayshore Solar B, LLC.

Filed Date: 1/27/17.

Accession Number: 20170127-5212.

Comments Due: 5 p.m. ET 2/17/17.

Docket Numbers: EG17-47-000.

Applicants: Bayshore Solar C, LLC.

Description: Notice of Self-Certification of Exempt Wholesale Generator (EWG) of Bayshore Solar C, LLC.

Filed Date: 1/27/17.

Accession Number: 20170127-5213

Comments Due: 5 p.m. ET 2/17/17.

Docket Numbers: EG17-48-000.

Applicants: Port Comfort Power LLC.

Description: Notice of Self-Certification as Exempt Wholesale Generator of Port Comfort Power LLC.

Filed Date: 1/30/17.

Accession Number: 20170130-5040.

Comments Due: 5 p.m. ET 2/21/17.

Docket Numbers: EG17-49-000.

Applicants: Chamon Power LLC.

Description: Notice of Self-Certification of Exempt Wholesale Generator Status of Chamon Power LLC.

Filed Date: 1/30/17.

Accession Number: 20170130-5041.

Comments Due: 5 p.m. ET 2/21/17.

Docket Numbers: EG17-50-000.

Applicants: Arkwright Summit Wind Farm LLC.

Description: Notice of Self-Certification of Exempt Wholesale Generator Status of Arkwright Summit Wind Farm LLC.

Filed Date: 1/30/17.

Accession Number: 20170130-5081.

Comments Due: 5 p.m. ET 2/21/17.

Docket Numbers: EG17-51-000.

Applicants: Quilt Block Wind Farm LLC.

Description: Notice of Self-Certification of Exempt Wholesale Generator Status of Quilt Block Wind Farm LLC.

Filed Date: 1/30/17.

Accession Number: 20170130-5083.

Comments Due: 5 p.m. ET 2/21/17.

Take notice that the Commission received the following electric rate filings:

Docket Numbers: ER10-2331-063; ER10-2319-054; ER10-2317-054; ER13-1351-036; ER10-2330-061.

Applicants: J.P. Morgan Ventures Energy Corporation, BE CA LLC, BE Alabama LLC, Florida Power Development LLC, Utility Contract Funding, L.L.C.

Description: Non-Material Change in Status of the J.P. Morgan Sellers.

Filed Date: 1/27/17.

Accession Number: 20170127-5299.

Comments Due: 5 p.m. ET 2/17/17.

Docket Numbers: ER11-4267-010; ER17-692-001; ER11-4270-010; ER16-2169-002; ER16-2364-002; ER11-4269-011; ER16-2703-001; ER11-4694-007; ER14-1282-001; ER16-2412-004; ER12-1680-008; ER15-2631-006; ER11-113-011; ER10-2738-004.

Applicants: Algonquin Energy Services Inc., Algonquin Power Sanger LLC, Algonquin Power Windsor Locks LLC, Algonquin SKIC 20 Solar, LLC, Algonquin SKIC 10 Solar, LLC, Algonquin Tinker Gen Co., Deerfield Wind Energy, LLC, GSG 6, LLC, Liberty Utilities (Granite State Electric) Corp., Luning Energy LLC, Minonk Wind, LLC, Odell Wind Farm, LLC, The Empire District Electric Company, Sandy Ridge Wind, LLC.

Description: Notice of Change in Status of Algonquin Energy Services Inc., et. al.

Filed Date: 1/27/17.

Accession Number: 20170127-5285.

Comments Due: 5 p.m. ET 2/17/17.

Docket Numbers: ER13-1159-002.

Applicants: National Grid Generation LLC.

Description: Compliance filing: A&R PSA, Amendment No. 2 to be effective 1/1/2016.

Filed Date: 1/27/17.

Accession Number: 20170127-5225.

Comments Due: 5 p.m. ET 2/17/17.

Docket Numbers: ER15-1026-003; ER10-1533-014; ER10-2374-013; ER12-673-010; ER12-672-010.

Applicants: Utah Red Hills Renewable Park, LLC, Puget Sound Energy, Inc., Macquarie Energy LLC, Brea Generation LLC, Brea Power II LLC.

Description: Notice of Non-Material Change in Status of Utah Red Hills Renewable Park, LLC, et. al.

Filed Date: 1/27/17.

Accession Number: 20170127-5288.

Comments Due: 5 p.m. ET 2/17/17.

Docket Numbers: ER16-833-004.

Applicants: Midcontinent Independent System Operator, Inc.

Description: Compliance filing: 2017-01-27_Compliance regarding Default Technology-Specific Avoidable Cost to be effective 9/1/2016.

Filed Date: 1/27/17.

Accession Number: 20170127-5206.

Comments Due: 5 p.m. ET 2/17/17.

Docket Numbers: ER17-253-001.

Applicants: Southwest Power Pool, Inc.

Description: Tariff Amendment: Deficiency Response in ER17-253—OPPD Formula Rate Revisions to be effective 1/1/2017.

Filed Date: 1/30/17.

Accession Number: 20170130-5131.

Comments Due: 5 p.m. ET 2/21/17.

Docket Numbers: ER17-873-000.

Applicants: Wisconsin Public Service Corporation.

Description: Tariff Cancellation: Cancellation of WPSC—Village of Daggett to be effective 1/1/2017.

Filed Date: 1/27/17.

Accession Number: 20170127-5219.

Comments Due: 5 p.m. ET 2/17/17.

Docket Numbers: ER17-874-000.

Applicants: Wisconsin Electric Power Company.

Description: Tariff Cancellation: Cancellation of WDA between Wisconsin Electric and Alger Delta to be effective 1/1/2017.

Filed Date: 1/27/17.

Accession Number: 20170127-5230.

Comments Due: 5 p.m. ET 2/17/17.

Docket Numbers: ER17-876-000.

Applicants: Wisconsin Electric Power Company.

Description: Tariff Cancellation: Cancellation of WDA between Wisconsin Electric and Ontonagon to be effective 1/1/2017.

Filed Date: 1/27/17.

Accession Number: 20170127-5243.

Comments Due: 5 p.m. ET 2/17/17.

Docket Numbers: ER17-877-000.

Applicants: Wisconsin Public Service Corporation.

Description: Tariff Cancellation: Cancellation WPSC—MSCPA to be effective 1/1/2017.

Filed Date: 1/27/17.

Accession Number: 20170127-5244.

Comments Due: 5 p.m. ET 2/17/17.

Docket Numbers: ER17-878-000.

Applicants: Wisconsin Electric Power Company.

Description: Tariff Cancellation: Cancellation of WDA between Wisconsin Electric and Crystal Falls to be effective 1/1/2017.

Filed Date: 1/27/17.

Accession Number: 20170127-5246

Comments Due: 5 p.m. ET 2/17/17.

Docket Numbers: ER17-879-000.

Applicants: California Independent System Operator Corporation.

Description: § 205(d) Rate Filing: 2017-01-27 NERC Outages Reliability Standard Amendment to be effective 4/1/2017.

Filed Date: 1/30/17.

Accession Number: 20170130-5001.

Comments Due: 5 p.m. ET 2/21/17.

Docket Numbers: ER17-880-000.

Applicants: Wisconsin Public Service Corporation.

Description: Tariff Cancellation: Cancellation of WPSC—Stephenson Agreement to be effective 1/1/2017.

Filed Date: 1/27/17.

Accession Number: 20170127-5247.

Comments Due: 5 p.m. ET 2/17/17.

Docket Numbers: ER17-881-000.

Applicants: Duke Energy Florida, LLC.

Description: § 205(d) Rate Filing: City of Wauchula NITSA-NOA Amendment SA No. 150 to be effective 1/1/2017.

Filed Date: 1/30/17.

Accession Number: 20170130-5035.

Comments Due: 5 p.m. ET 2/21/17.

Docket Numbers: ER17-881-000.

Applicants: Duke Energy Florida, LLC.

Description: Report Filing: Refund Report—City of Wauchula to be effective N/A.

Filed Date: 1/30/17.

Accession Number: 20170130-5050.

Comments Due: 5 p.m. ET 2/21/17.

Docket Numbers: ER17-882-000.

Applicants: Duke Energy Florida, LLC.

Description: § 205(d) Rate Filing: DEF-KUA Pole Attachment Agreement RS No. 225 to be effective 4/1/2017.

Filed Date: 1/30/17.

Accession Number: 20170130-5038.

Comments Due: 5 p.m. ET 2/21/17.

Docket Numbers: ER17-883-000.

Applicants: Duke Energy Florida, LLC.

Description: § 205(d) Rate Filing: QF Contracts with Mulberry Energy, Orange CoGen and Covanta Lake to be effective 4/1/2017.

Filed Date: 1/30/17.

Accession Number: 20170130-5049.

Comments Due: 5 p.m. ET 2/21/17.

Docket Numbers: ER17-884-000.

Applicants: Niagara Mohawk Power Corporation, New York Independent System Operator, Inc.

Description: § 205(d) Rate Filing: 205 Modifications to NPMC TSC Formula Rate to be effective 4/1/2017.

Filed Date: 1/30/17.

Accession Number: 20170130-5109.

Comments Due: 5 p.m. ET 2/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2017.
Nathaniel J. Davis, Sr.,
Deputy Secretary.

[FR Doc. 2017-02328 Filed 2-2-17; 8:45 am]

BILLING CODE 6717-01-P